FEDERAL EMERGENCY MANAGEMENT AGENCY

[FEMA-1437-DR]

Louisiana; Amendment No. 2 to Notice of a Major Disaster Declaration

AGENCY: Federal Emergency Management Agency (FEMA).

ACTION: Notice.

SUMMARY: This notice amends the notice of a major disaster declaration for the State of Louisiana, (FEMA-1437-DR), dated October 3, 2002, and related determinations.

EFFECTIVE DATE: October 17, 2002.

FOR FURTHER INFORMATION CONTACT: Magda Ruiz, Response and Recovery Directorate, Federal Emergency Management Agency, Washington, DC 20472, (202) 646-2705 or Magda.Ruiz@fema.gov.

SUPPLEMENTARY INFORMATION: The notice of a major disaster declaration for the State of Louisiana is hereby amended to include the following areas among those areas determined to have been adversely affected by the catastrophe declared a major disaster by the President in his declaration of October 3, 2002:

Acadia, Assumption, Avoyelles, Beauregard, Calcasieu, Cameron, Evangeline, Iberia, Iberville, Jefferson Davis, Jefferson, Lafayette, Lafourche, Livingston, Orleans, Plaquemines, St. Bernard, St. Charles, St. James, St. John the Baptist, St. Landry, St. Martin, St. Mary, St. Tammany, Tangipahoa, Terrebonne, and Vermillion Parishes for Categories C through G under the Public Assistance program (already designated for Categories A and B, including direct Federal assistance and Individual Assistance).

East Baton Rouge, Pointe Coupee, Rapides, and West Baton Rouge Parishes for Categories C through G under the Public Assistance program (already designated for Categories A and B).

Allen, Caldwell, Catahoula, East Feliciana, LaSalle, Ouachita, St. Helena, Vernon, Washington, and West Feliciana Parishes for Public Assistance.

Allen, East Baton Rouge, East Feliciana, St. Helena, Pointe Coupee, Rapides, Washington, and West Baton Rouge Parishes for Individual Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program)

Joe M. Allbaugh,
Director.

[FR Doc. 02-27961 Filed 11-1-02; 8:45 am]

BILLING CODE 6718-02-P